DEPARTMENT OF THE TREASURY

Submission for OMB Review; Comment Request

August 18, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

Dates: Written comments should be received on or before September 25, 2009 to be assured of consideration.

Internal Revenue Service (IRS)

OMB Number: 1545-2002.

Type of Review: Extension.

Title: Notice 2006-25, Qualifying Gasification Project Program.

Description: This notice establishes the qualifying gasification project under Section 48B of the Internal Revenue Code. This notice provides the time and manner for a taxpayer to apply for an allocation of qualifying gasification project credits.

Respondents: Businesses or other for-profits.

Estimated Total Burden Hours: 1,700 hours.

OMB Number: 1545-1569.

Type of Review: Extension.

Form: 8861.

Title: Welfare-to-Work Credit.

Description: Section 51A of the Internal Revenue Code allows employers an income tax credit of 35% of the first $10,000 of first-year wages and 50% of the first $10,000 of second-year wages paid to long-term family assistance recipients. The credit is part of the general business credit.

Respondents: Businesses or other for-profits.

Estimated Total Burden Hours: 1,593 hours.

OMB Number: 1545-1976.

Type of Review: Extension.

Form: Schedule F, Parts 2 and 3 (1040).

Title: Profit or Loss from Farming.

Description: Schedule F (Form 1040) is used by individuals to report their employment taxes. The data is used to verify that the items reported on the form is correct and also for general statistical use.

Respondents: Businesses or other for-profits.

Estimated Total Burden Hours: 49,356 hours.

OMB Number: 1545-1520.

Type of Review: Extension.

Title: Revenue Procedure 2003-4 (Letter Rulings), Revenue Procedure 2003-5 (Technical Advice), Revenue Procedure 2003-6 (Determination Letters), and Revenue Procedure 2003-8 (User Fees).

Description: The information requested in Revenue Procedure 2003-4, Revenue Procedure 2003-5, Revenue Procedure 2003-6, and Revenue Procedure 2003-8 is required to enable the Office of the Division Commissioner (Tax Exempt and Government Entities) of the Internal Revenue Service to give advice on filing letter ruling, determination letter, and technical advice requests, to process such requests, and to determine the amount of any user fees.

Respondents: Businesses or other for-profits.

Estimated Total Burden Hours: 177,986 hours.

OMB Number: 1545-1804.

Type of Review: Revision.

Form: 8874.

Title: New Markets Credit.

Description: Investors use Form 8874 to request a credit for equity investments in Community development entities.

Respondents: Businesses or other for-profits.

Estimated Total Burden Hours: 32,464 hours.

OMB Number: 1545-1998.

Type of Review: Revision.

Form: 8910.

Title: Alternative Motor Vehicle Credit.

Description: Taxpayers will file Form 8910 to claim the credit for certain alternative motor vehicles placed in service after 2005.

Respondents: Businesses or other for-profits.

Estimated Total Burden Hours: 115,900 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-20573 Filed 8-25-09; 8:45 am]

BILLING CODE 4830-01-P